DEPARTMENT OF HOUSING AND URBAN DEVELOPMENT

[Docket No. FR-7001-N-43]

30-Day Notice of Proposed Information Collection: Housing Choice Voucher (HCV), Rent subsidies, Low-Income Housing, Homeownership, Portability, HCV Transfers; Project-Based Vouchers; Tribal HUD-VASH

AGENCY: Office of the Chief Information Officer, HUD.

ACTION: Notice.

SUMMARY: HUD submitted the proposed information collection requirement described below to the Office of Management and Budget (OMB) for review, in accordance with the Paperwork Reduction Act. The purpose of this notice is to allow for 30 days of public comment.

DATES: Comments Due Date: September 19, 2018.

ADDRESSES: Interested persons are invited to submit comments regarding this proposal. Comments should refer to the proposal by name and/or OMB Control Number and should be sent to: HUD Desk Officer, Office of Management and Budget, New Executive Office Building, Washington, DC 20503; fax: 202-395-5806, Email: OIRASubmission@omb.eop.gov.

FOR FURTHER INFORMATION CONTACT: Colette Pollard, Reports Management Officer, QMAC, Department of Housing and Urban Development, 451 7th Street SW, Washington, DC 20410; email Colette.Pollard@hud.gov, or telephone 202-402-3400. This is not a toll-free number. Person with hearing or speech impairments may access this number through TTY by calling the toll-free Federal Relay Service at (800) 877-8339. Copies of available documents submitted to OMB may be obtained from Ms. Pollard.

SUPPLEMENTARY INFORMATION: This notice informs the public that HUD is seeking approval from OMB for the information collection described in Section A.

The Federal Register notice that solicited public comment on the information collection for a period of 60 days was published on May 25, 2018 at 83 FR 24333.

A. Overview of Information Collection

Title of Information Collection: Housing Choice Voucher (HCV), Rent subsidies, Low-Income Housing, Homeownership, Portability, HCV Transfers; Project-Based Vouchers; Tribal HUD-VASH.

OMB Approved Number: 2577-0169.

Type of Request: Revision of currently approved collection with changes that include new requirements of the Housing Opportunities Through Modernization Act (HOTMA) of 2016, inclusion of contract amendments for both the HCV and project-based voucher (PBV) programs, and the Tribal HUD-VA Supportive Housing Program (Tribal HUD-VASH).

Form Number: HUD-52515, HUD-52667, HUD-52580, HUD-52580-A, HUD-52517, HUD-52646, HUD-52665, HUD-52641, HUD-52641-A, HUD 52642, HUD 52649, HUD 52531A and B, HUD 52530A, HUD 52530B, HUD 52530C, HUD 52578B, HUD-50164, and Tribal HUD-VASH application materials.

Description of the need for the information and proposed use: Public Housing Agencies (PHA) will prepare an application for funding which specifies the number of units requested, as well as the PHA's objectives and plans for administering the Housing Choice (HCV) and Project Base Voucher (PBV) programs. The application is reviewed by HUD Headquarters and HUD Field Offices and ranked according to the PHA's administrative capability, the need for housing assistance, and other factors specified in a notice of funding availability. The PHAs must establish a utility allowance schedule for all utilities and other services. Units must be inspected using HUD-prescribed forms to determine if the units meet the Housing Quality Standards (HQS) of the HCV program. After the family is issued a HCV to search for a unit pursuant to attending a briefing and receiving an information packet, the family must complete and submit to the PHA a Request for Tenancy Approval when it finds a unit which is suitable for its needs. Initial PHAs will use a standardized form to submit portability information to the receiving PHA who will also use the form for monthly portability billing. PHAs and owners will enter into housing assistance payments (HAP) contract each providing information on rents, payments, certifications, notifications, and owner agreement in a form acceptable to the PHA. A Tenancy Addendum for the HCV program is included in the HAP contract as well as incorporated in the lease between the owner and the family. Families that participate in the Homeownership option will execute a statement regarding their responsibilities and execute contracts of sale including an additional contract of sale for new construction units. PHAs participating in the PBV program will enter into Agreements with owners for developing projects, HAP contracts with the existing and New Construction/Rehabilitation owners, a Statement of Family Responsibilities with the family and a lease addendum for execution between the family and the owner.

New requirements have been established for independent entities in both the HCV and PBV programs. In addition, new requirements have been established for the Housing Opportunities Through Modernization (HOTMA) rule of 2016. HOTMA made changes to both the definition of PHA-owned housing and several changes to the PBV program to conform with HOTMA requirements. As a result of these updates, changes have been made to the following forms: PBV HAP Contracts (both for existing housing (HUD-52530 A and B) and new Construction/Rehab (HUD 52531 A and B); PBV Tenancy Addendum; (HUD 53530c) and HCV HAP Contract (HUD 52641).

Other forms that are being updated are: The Funding Application (HUD 52515); the Request for Tenancy Approval (HUD-52517); and Allowances for Tenant-Furnished Utilities and Other Services (HUD 5267). Three new documents each will be added for the Family Unification Program application process and the HUD-VASH Application Process. Additionally, the forms will be updated to remove outdated references (such as those to the Certificate Program). Such updates do not result in an increase in burden hours.

This information collection also includes the Tribal HUD-VA Supportive Housing Program (Tribal HUD-VASH) provides rental assistance and supportive services to Native American veterans who are Homeless or At Risk of Homelessness living on or near a reservation or other Indian areas. Housing assistance under this program is made available by grants to tribes and TDHEs that are eligible to receive IHBG funding under the Native American Housing and Self-Determination Act (25 U.S.C. 4212) (NAHASDA). Tribes request Tenant-Based and/or Project-Based Rental Assistance by the number of bedrooms in a rental unit. Grants and renewal funds are awarded based on the number rental units (Tenant-Based and Project-Based Rental Assistance) approved by HUD. Grants include an additional amount for administrative costs and eligible Homeless veterans receive case management services through the Department of Veterans Affairs. Information collection requirements for this demonstration program are based on the Federal Register Notice, “Implementation of the Tribal HUD-VA Supportive Housing Program” (FR 6091-N-01) and renewal funding criteria established in PIH Notice 2018-10, “Procedural Guidance for Tribal HUD-VA Supportive Housing Renewal Grant Applications.”

Respondents (i.e., affected public): State and Local Governments, Tribes and Tribally-Designated Housing Entities, businesses or other non-profits.

Estimated Number of Respondents: 2,218 PHAs and Tribal HUD-VASH grantees.

Estimated Number of Responses: 3,680,527.

Frequency of Response: 1,659.39.

Average Hours per Response: 0.446507.

Total Estimated Burdens Hours: 1,643,381.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond: Including through the use of appropriate automated collection techniques or other forms of information technology, e.g., permitting electronic submission of responses.

HUD encourages interested parties to submit comment in response to these questions.

Authority: Section 3507 of the Paperwork Reduction Act of 1995, 44 U.S.C. Chapter 35.

Dated: August 6, 2018.
Colette Pollard,
Department Reports Management Officer, Office of the Chief Information Officer.

[FR Doc. 2018-17918 Filed 8-17-18; 8:45 am]

BILLING CODE 4210-67-P